DEPARTMENT OF TRANSPORTATION

Federal Aviation Administration

Commercial Space Transportation Advisory Committee—Open Meeting

AGENCY: Federal Aviation Administration (FAA), DOT.

ACTION: Notice of Commercial Space Transportation Advisory Committee open meeting.

SUMMARY: Pursuant to Section 10(a)(2) of the Federal Advisory Committee Act (Pub. L. 92-463, 5 U.S.C. App. 2), notice is hereby given of a meeting of the Commercial Space Transportation Advisory Committee (COMSTAC). The meeting will take place on Thursday, May 21, 2009, starting at 8 a.m. at the Federal Aviation Administration Headquarters Building, 800 Independence Avenue, SW., Washington, DC, in the Bessie Coleman Conference Center, located on the 2nd Floor. This will be the forty-ninth meeting of the COMSTAC.

The proposed agenda for this meeting will focus on discussions concerning several critical issues, including:

—The impact of the current economy on the U.S. commercial space transportation industry;

—Space situational awareness, space traffic management, and FAA's role in these areas;

—Identifying the critical issues impacting operations at U.S. federal and non-federal launch sites that the COMSTAC should be considering.

There will also be briefings on the 2009 Commercial Space Transportation Market Forecasts and discussions and activity reports by the chairpersons of the COMSTAC working groups. Subject to approval, a portion of the May 21st meeting will be closed to the public (starting at 3:45 p.m.).

Interested members of the public may submit relevant written statements for the COMSTAC members to consider under the advisory process. Statements may be concerning the issues and agenda items mentioned above and/or additional issues that may be relevant for the U.S. commercial space transportation industry. Interested parties wishing to submit written statements should contact Brenda Parker, DFO, (the Contact Person listed below) in writing (mail or e-mail) by May 1, 2009, so that the information can be made available to COMSTAC members for their review and consideration prior to the May 21st meeting. Written statements should be supplied in the following formats: one hard copy with original signature and/or one electronic copy via e-mail.

An agenda will be posted on the FAA Web site at http://ast.faa.gov. For specific information concerning the times and locations of the COMSTAC working group meetings, contact the Contact Person listed below.

Individuals who plan to attend and need special assistance, such as sign language interpretation or other reasonable accommodations, should inform the Contact Person listed below in advance of the meeting.

FOR FURTHER INFORMATION CONTACT: Brenda Parker (AST-100), Office of Commercial Space Transportation (AST), 800 Independence Avenue, SW., Room 331, Washington, DC 20591, telephone (202) 267-3674; E-mail brenda.parker@faa.gov. Complete information regarding COMSTAC is available on the FAA Web site at: http://www.faa.gov/about/office_org/headquarters_offices/ast/advisory_committee/.

Issued in Washington, DC, April 6, 2009.
George C. Nield,
Associate Administrator for Commercial Space Transportation.

[FR Doc. E9-8367 Filed 4-10-09; 8:45 am]

BILLING CODE 4910-13-P